NATIONAL SCIENCE FOUNDATION

Notice of Permit Applications Received Under the Antarctic Conservation Act of 1978 (Public Law 95-541)

AGENCY: National Science Foundation.

ACTION: Notice of permit applications received under the Antarctic Conservation Act of 1978, Public Law 95-541.

SUMMARY: The National Science Foundation (NSF) is required to publish notice of permit applications received to conduct activities regulated under the Antarctic Conservation Act of 1978. NSF has published regulations under the Antarctic Conservation Act at title 45 part 670 of the Code of Federal Regulations. This is the required notice of permit applications received.

DATES: Interested parties are invited to submit written data, comments, or views with respect to this permit application by January 5, 2003. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant

Robert A. Blanchette, Department of Plant Pathology; 1991 Upper Buford Circle; 495 Borlaug Hall, University of Minnesota, St. Paul, MN 55108-6030.

Activity for Which Permit is Requested

Take and Enter Antarctic Specially Protected Areas. The applicant proposes enter the historic huts in the Ross Sea Region (Cape Evans—ASPA #154, Cape Royds—ASPA #156, and Discovery Hut—ASPA #157) to collect samples of deterioration in and around the huts, evaluate damage from historic chemical and fuel spills, assess microbial populations at the sites and set up environmental monitoring of humidity and temperature within the huts. This work is being done in cooperation with the conservators from the New Zealand Antarctic Heritage Trust and researchers from the University of Waikato, New Zealand.

Location

Cape Evans Historic Site (ASPA #154), Cape Royds (ASPA #156), and Discovery Hut, Ross Island (ASPA #157):

Dates

January 1, 2004 to December 31, 2007.

Nadene G. Kennedy,
Permit Officer, Office of Polar Programs.

[FR Doc. 03-30197 Filed 12-4-03; 8:45 am]

BILLING CODE 7555-01-M